DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Indian Affairs to meet their administrative needs. The lands surveyed are:

The plat representing the dependent resurvey of portions of the west boundary, the subdivisional lines, the subdivision of sections 7 and 18, the adjusted 1873 and 1889-1891 meanders of the right bank of the Clearwater River, and of a portion of Parcel 2 in section 7, additional survey of subdivision lines in sections 7 and 18, the subdivision of section 19, and the survey of the 1999-2001 meanders of portions of the left bank of the Clearwater River in section 6 and portions of the right bank in section 7, a partition line in section 7, the metes-and-bounds surveys in section 18, and the survey of lot 20 in section 19, in T. 33 N., R. 4 E., Boise Meridian, Idaho, was accepted July 1, 2005.

The plat representing the dependent resurvey of portions of the south and west boundaries, the subdivisional lines, the subdivision of sections 1, 11, and 12, lot 43 of section 1, the adjusted record meanders of a portion of the left bank of the Clearwater River in section 1, the additional survey of subdivision lines in sections 1, 11, and 12, the subdivision of sections 14, 15, 16, 17, 19, 20, 21, 22, 29, 30, 32, and 36, the survey of lot Nos. 56, 58, and 61, in section 1, lot No. 8 in section 11, and of lot No. 58 in section 12, in T. 33 N., R. 3 E., Boise Meridian, Idaho was accepted July 1, 2005.

The plat, in 4 sheets, of the dependent resurvey of portions of the First Standard Parallel South (south boundary) and subdivisional lines, and the subdivision of sections 26, 27, 34, and 35, and the metes-and-bounds surveys of the rights-of-way of Interstate Highway 86 through sections 26 and 27, and Gas Plant Road through sections 26, 27, 34, and 35, in T. 6 S., R. 32 E., Boise Meridian, Idaho, was accepted August 11, 2005.

The plat, in 4 sheets, of the dependent resurvey of portions of the east boundary and subdivisional lines, and the subdivision of sections 2, 3, 10, 11, 12, 14, 15, and 16, and certain metes-and-bounds surveys in sections 2, 3, 10, 11, 12, 14, 15, and 16, in T. 7 S., R. 32 E., Boise Meridian, Idaho, was accepted August 11, 2005.

The plat, in 3 sheets, of the dependent resurvey of the First Standard Parallel South (south boundary), a portion of the east boundary (New East Boundary of the Fort Hall Indian Reservation) and a portion of the subdivisional lines, and the subdivision of sections 24, 25, 34, 35, and 36, and certain metes-and-bounds surveys in sections 24, 25, 34, 35, and 36, in T. 6 S., R. 33 E., Boise Meridian, Idaho, was accepted August 12, 2005.

The plat, in 3 sheets, of the dependent resurvey of a portion of the subdivisional lines, and the subdivision of sections 3, 4, 5, 7, and 8, and certain metes-and-bounds surveys in sections 3, 4, 5, 7, and 8, in T. 7 S., R. 33 E., Boise Meridian, Idaho, was accepted August 12, 2005.

This survey was executed at the request of the National Park Service to meet their administrative needs. The lands surveyed are:

The plat representing the dependent resurvey of a portion of the west boundary, and a portion of the subdivisional lines, and the subdivision of sections 8, 19, 20, 21, and 28, in T. 15 S., R. 24 E., Boise Meridian, Idaho, was accepted July 19, 2005.

Dated: August 30, 2005.
Stanley G. French,
Chief Cadastral Surveyor for Idaho.

[FR Doc. 05-17611 Filed 9-2-05; 8:45 am]

BILLING CODE 4310-GG-P